NUCLEAR REGULATORY COMMISSION

Advisory Committee on the Medical Uses of Isotopes: Meeting Notice

AGENCY: U.S. Nuclear Regulatory Commission.

ACTION: Notice of Meeting.

SUMMARY: NRC will convene a meeting of the Advisory Committee on the Medical Uses of Isotopes (ACMUI) on April 15-16, 2013. A sample of agenda items to be discussed during the public session includes: (1) An update on the status of the Commission Paper on data collection for Patient Release; (2) an update on the proposed interim enforcement policy for Permanent Implant Brachytherapy programs; (3) medical-related events from fiscal year 2012; (4) an update on the 10 CFR Part 35 Rulemaking; (5) a discussion on the draft guidance for the 10 CFR Part 35 Rulemaking; (6) an overview of the NNSA's efforts to minimize the use of highly enriched uranium in molybdenum-99 production; (7) an overview of the 2013 reimbursement policy for non-HEU produced medical isotopes and (8) the Abnormal Occurrence Subcommittee Report. The agenda is subject to change. The current agenda and any updates will be available at http://www.nrc.gov/reading-rm/doc-collections/acmui/agenda or by emailing Ms. Sophie Holiday at the contact information below.

Purpose: Discuss issues related to 10 CFR Part 35 Medical Use of Byproduct Material.

Date and Time for Closed Session: April 15, 2013, from 8:00 a.m. to 9:30 a.m. This session will be closed for ACMUI training.

Date and Time for Open Sessions: April 15, 2013, from 9:30 a.m. to 5:00 p.m. and April 16, 2013, from 8:00 a.m. to 2:30 p.m.

Address for Public Meeting: U.S. Nuclear Regulatory Commission, Two White Flint North Building, Room T2-B3, 11545 Rockville Pike, Rockville, Maryland 20852.

Public Participation: Any member of the public who wishes to participate in the meeting in person or via phone should contact Ms. Holiday using the information below. The meeting will also be webcast live: video.nrc.gov.

Contact Information: Sophie J. Holiday, email: sophie.holiday@nrc.gov, telephone: (301) 415-7865.

Conduct of the Meeting

Leon S. Malmud, M.D., will chair the meeting. Dr. Malmud will conduct the meeting in a manner that will facilitate the orderly conduct of business. The following procedures apply to public participation in the meeting:

1. Persons who wish to provide a written statement should submit an electronic copy to Ms. Holiday at the contact information listed above. All submittals must be received by April 8, 2013, and must pertain to the topic on the agenda for the meeting.

2. Questions and comments from members of the public will be permitted during the meeting, at the discretion of the Chairman.

3. The draft transcript will be available on ACMUI's Web site (http://www.nrc.gov/reading-rm/doc-collections/acmui/tr/) on or about May 17, 2013. A meeting summary will be available on ACMUI's Web site (http://www.nrc.gov/reading-rm/doc-collections/acmui/meeting-summaries/) on or about May 28, 2013.

4. Persons who require special services, such as those for the hearing impaired, should notify Ms. Holiday of their planned attendance.

This meeting will be held in accordance with the Atomic Energy Act of 1954, as amended (primarily Section 161a); the Federal Advisory Committee Act (5 U.S.C. App); and the Commission's regulations in Title 10, U.S. Code of Federal Regulations, Part 7.

Dated: February 28, 2013.
Andrew L. Bates,
Advisory Committee Management Officer.

[FR Doc. 2013-05168 Filed 3-5-13; 8:45 am]

BILLING CODE 7590-01-P